DEPARTMENT OF TRANSPORTATION

Surface Transportation Board

[STB Finance Docket No. 33744]

CSX Transportation, Inc.—Trackage Rights Exemption—Louisville & Indiana Railroad Company

Louisville & Indiana Railroad Company (LIRC) has agreed to grant to CSX Transportation, Inc. (CSXT) trackage rights over LIRC's line between milepost 110.56, at Louisville, KY, and milepost 4.0, at Indianapolis, IN, a distance of approximately 106.5 miles (line).¹

¹ Redacted versions of two Trackage Rights Agreements between CSXT and LIRC (agreements) were filed with the verified notice of exemption. Unredacted versions of the agreements, as required by 49 CFR 1180.6(a)(7)(ii), were concurrently filed under seal along with a motion for a protective order. That motion has been granted in a separate decision and a protective order in this proceeding is being served on June 15, 2001.

The transaction is scheduled to be consummated on June 15, 2001. The trackage rights will allow CSXT to operate efficiently between Louisville and Indianapolis.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33744, must be filed with the Surface Transportation Board, Office of the Secretary, Case Control Unit, 1925 K Street, NW., Washington, DC 20423-0001. In addition, one copy of each pleading must be served on Natalie S. Rosenberg, Esq., CSX Transportation, Inc., 500 Water Street, Jacksonville, FL 32202.

Board decisions and notices are available on our website at www.stb.dot.gov.

Decided: June 13, 2001.
By the Board, David M. Konschnik, Director, Office of Proceedings.
Vernon A. Williams,
Secretary.

[FR Doc. 01-15433 Filed 6-20-01; 8:45 am]

BILLING CODE 4915-00-P